DEPARTMENT OF THE INTERIOR

Fish and Wildlife Service

[FWS-HQ-FAC-2019-N055; FXFR13360900000-FF09Fl4000-189]

Sport Fishing and Boating Partnership Council Meeting

AGENCY: Fish and Wildlife Service, Interior.

ACTION: Notice of meeting.

SUMMARY: We, the U.S. Fish and Wildlife Service, announce a public meeting of the Sport Fishing and Boating Partnership Council (SFBPC), in accordance with the Federal Advisory Committee Act. The SFBPC's purpose is to advise the Secretary of the Interior, through the Director of the U.S. Fish and Wildlife Service, on aquatic conservation endeavors that benefit recreational resources and recreational boating and that encourage partnerships among industry, the public, and the government.

DATES: The SFBPC will meet on Tuesday, June 25, 2019, from 8:30 a.m. to 4:30 p.m., and Wednesday, June 26, 2019, from 8:30 a.m. to 1:30 p.m. The meeting is open to the public, except for between 8:45 a.m. and 9:45 a.m. on June 25, 2019, when the newly appointed SFBPC members will attend an ethics training session. For security purposes, registration is required. For more information, contact the Designated Federal Officer (see FOR FURTHER INFORMATION CONTACT, below).

ADDRESSES: Meeting location: The SFBPC meeting will take place at the Department of the Interior, 1849 C Street NW, Washington, DC 20240 (telephone: 202-208-3100) in conference room 5160.

Comment submission: You may submit written comments in advance of the meeting by emailing them to the Designated Federal Officer (see FOR FURTHER INFORMATION CONTACT, below), by close of business on June 19, 2019.

FOR FURTHER INFORMATION CONTACT: Linda Friar, Branch Chief, Communications and Partnerships, and SFBPC Designated Federal Officer, by telephone at 703-358-2056, or by email at linda_friar@fws.gov.

Accessibility: The U.S. Fish and Wildlife Service is committed to providing access to this meeting for all participants. Please direct all requests for sign language interpreting services, closed captioning, or other accommodation needs to the Designated Federal Officer, by using the contact information above or via TIY at 800-877-8339, by close of business on June 17, 2019.

SUPPLEMENTARY INFORMATION: We, the U.S. Fish and Wildlife Service (Service), announce a public meeting of the Sport Fishing and Boating Partnership Council, in accordance with the Federal Advisory Committee Act (5 U.S.C. Appendix 2). The Council was established in 1993. The Council's charter and bylaws provide more information on its duties, committee structure, and authorities. The role of the Council was expanded by Executive Order 12962 in 1995. In subsequent years, Executive Order 13474 refined the previous Order to provide additional guidance to Federal agencies on providing increased recreational fishing opportunities. The SFBPC advises the Secretary of the Interior, through the Director of the U.S. Fish and Wildlife Service, on aquatic conservation endeavors that benefit recreational resources and recreational boating and that encourage partnerships among industry, the public, and the government.

Meeting Agenda

• New member ethics training

• Election of officers

• Program updates

• New business

The final agenda and other related meeting information will be posted on the SFBPC website at https://www.fws.gov/sfbpc/. Summary minutes of the meeting will be maintained by the Designated Federal Officer and will be available for public inspection within 90 days after the meeting at https://www.fws.gov/sfbpc/.

Public Input

If you provide a written comment, before including your address, phone number, email address, or other personal identifying information in your comment, you should be aware that your entire comment-including your personal identifying information-may be made publicly available at any time. While you can ask us in your comment to withhold your personal identifying information from public review, we cannot guarantee that we will be able to do so.

Authority: 5 U.S.C. Appendix 2.

Dated: May 3, 2019.
David W. Hoskins,
Assistant Director for Fish and Aquatic Conservation.

[FR Doc. 2019-12060 Filed 6-6-19; 8:45 am]

BILLING CODE 4333-15-P